DEPARTMENT OF ENERGY

Federal Energy Regulatory Commission

Combined Notice of Filings #1

Take notice that the Commission received the following electric corporate filings:

Docket Numbers: EC11-123-000.

Applicants: MidAmerican Energy Company.

Description: Section 203 Application of MidAmerican Energy Company.

Filed Date: 09/30/2011.

Accession Number: 20110930-5291.

Comment Date: 5 p.m. Eastern Time on Friday, October 21, 2011.

Take notice that the Commission received the following exempt wholesale generator filings:

Docket Numbers: EG11-133-000.

Applicants: GSG 6, LLC.

Description: Notice of GSG 6, LLC of Self-Certification of Exempt Wholesale Generator Status.

Filed Date: 09/30/2011.

Accession Number: 20110930-5175.

Comment Date: 5 p.m. Eastern Time on Friday, October 21, 2011.

Take notice that the Commission received the following electric rate filings:

Docket Numbers: ER11-4423-001.

Applicants: Lockport Energy Associates, LP.

Description: Second triennial market power analysis of Lockport Energy Associates, LP.

Filed Date: 09/30/2011.

Accession Number: 20110930-5290.

Comment Date: 5 p.m. Eastern Time on Friday, October 21, 2011.

Docket Numbers: ER11-4727-000.

Applicants: Celerity Energy Partners San Diego LLC.

Description: Celerity Energy Partners San Diego LLC submits tariff filing per 35.1: Celerity Energy Partners San Diego LLC MBR Tariff to be effective 9/30/2011.

Filed Date: 09/30/2011.

Accession Number: 20110930-5184.

Comment Date: 5 p.m. Eastern Time on Friday, October 21, 2011.

Docket Numbers: ER11-4728-000.

Applicants: Massachusetts Electric Company.

Description: Massachusetts Electric Company submits tariff filing per 35.13(a)(2)(iii: Rate Update Filing for Massachusetts Electric Borderline Sales Agreement to be effective 3/5/2011.

Filed Date: 09/30/2011.

Accession Number: 20110930-5186.

Comment Date: 5 p.m. Eastern Time on Friday, October 21, 2011.

Docket Numbers: ER11-4729-000.

Applicants: APN Starfirst, LP.

Description: APN Starfirst, LP submits tariff filing per 35: APN Starfirst LP, Rate Schedule FERC No. 1 to be effective N/A.

Filed Date: 09/30/2011.

Accession Number: 20110930-5208.

Comment Date: 5 p.m. Eastern Time on Friday, October 21, 2011.

Docket Numbers: ER11-4730-000.

Applicants: Las Vegas Power Company, LLC.

Description: Las Vegas Power Company, LLC submits tariff filing per 35.13(a)(2)(iii: Reactive Service Rate Schedule to be effective 10/1/2011.

Filed Date: 09/30/2011.

Accession Number: 20110930-5219.

Comment Date: 5 p.m. Eastern Time on Friday, October 21, 2011.

Docket Numbers: ER11-4731-000.

Applicants: Xcel Energy Services Inc., Northern States Power Company, a Minnesota corporation, Northern States Power Company, a Wisconsin corporation.

Description: Xcel Energy Services, Inc. on behalf of Northern States Power Companies, submits a Notice of Termination of FERC Electric Rate Schedule No. 4.

Filed Date: 09/30/2011.

Accession Number: 20110930-5232.

Comment Date: 5 p.m. Eastern Time on Friday, October 21, 2011.

Docket Numbers: ER11-4732-000.

Applicants: California Independent System Operator Corporation

Description: California Independent System Operator Corporation submits tariff filing per 35.13(a)(2)(iii: 2011-09-30 Pseudo PGA with Mesquite Solar 1 to be effective 11/1/2011.

Filed Date: 09/30/2011.

Accession Number: 20110930-5255.

Comment Date: 5 p.m. Eastern Time on Friday, October 21, 2011.

Docket Numbers: ER11-4733-000.

Applicants: California Independent System Operator Corporation.

Description: California Independent System Operator Corporation submits tariff filing per 35.13(a)(2)(iii: 2011-09-30 SCP-QF Forced Outage Amendment to be effective 12/1/2011.

Filed Date: 09/30/2011.

Accession Number: 20110930-5264.

Comment Date: 5 p.m. Eastern Time on Friday, October 21, 2011.

Docket Numbers: ER11-4734-000.

Applicants: New England Power Pool Participants Committee.

Description: New England Power Pool Participants Committee submits tariff filing per 35.13(a)(2)(iii: Oct 2011 Membership Filing to be effective 9/1/2011.

Filed Date: 09/30/2011.

Accession Number: 20110930-5265.

Comment Date: 5 p.m. Eastern Time on Friday, October 21, 2011.

Docket Numbers: ER11-4735-000.

Applicants: Pacific Gas and Electric Company.

Description: Pacific Gas and Electric Company submits tariff filing per 35.13(a)(2)(iii: Western USBR TFA for Red Bluff Pumping Plant to be effective 10/3/2011.

Filed Date: 09/30/2011.

Accession Number: 20110930-5267.

Comment Date: 5 p.m. Eastern Time on Friday, October 21, 2011.

Docket Numbers: ER11-4736-000.

Applicants: Centaurus Energy Master Fund, LP.

Description: Notice of Cancellation of Market-Based Rate FERC Tariff of Centaurus Energy Master Fund, LP.

Filed Date: 09/30/2011.

Accession Number: 20110930-5287.

Comment Date: 5 p.m. Eastern Time on Friday, October 21, 2011.

Docket Numbers: ER11-4737-000.

Applicants: Patriot Partnership, LLC.

Description: Notice of Cancellation of Patriot Partnership LLC.

Filed Date: 09/30/2011.

Accession Number: 20110930-5288.

Comment Date: 5 p.m. Eastern Time on Friday, October 21, 2011.

Docket Numbers: ER11-4738-000.

Applicants: California Independent System Operator Corporation.

Description: Petition for Distribution of Forfeited Funds Collected in Connection with Processing Generator Interconnection Requests of the California Independent System Operator Corporation.

Filed Date: 09/30/2011.

Accession Number: 20110930-5297.

Comment Date: 5 p.m. Eastern Time on Friday, October 21, 2011.

Take notice that the Commission received the following electric securities filings:

Docket Numbers: ES11-53-000.

Applicants: System Energy Resources, Inc.

Description: Application for Authority under FPA Section 204 of System Energy Resources, Inc.

Filed Date: 09/30/2011.

Accession Number: 20110930-5286.

Comment Date: 5 p.m. Eastern Time on Friday, October 21, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2011.
Nathaniel J. Davis, Sr.,
Deputy Secretary.

[FR Doc. 2011-26123 Filed 10-7-11; 8:45 am]

BILLING CODE 6717-01-P